DEPARTMENT OF HEALTH AND HUMAN SERVICES

Centers for Medicare & Medicaid Services

[CMS-1535-CN, CMS-8030-CN2]

RIN 0938-AO26, 0938-AO23

Medicare Program; Hospice Wage Index for Fiscal Year 2007; Medicare Part B Monthly Actuarial Rates, Premium Rates, and Annual Deductible for Calendar Year 2007; Corrections

AGENCY: Centers for Medicare & Medicaid Services (CMS), HHS.

ACTION: Correction of notices.

SUMMARY: This document corrects technical errors that appeared in the notice published in the September 1, 2006 Federal Register, entitled “Hospice Wage Index for Fiscal Year 2007” and a technical error in the notice that appeared in the September 18, 2006 Federal Register entitled “Medicare Part B Monthly Actuarial Rates, Premium Rates, and Annual Deductible for Calendar Year 2007.”

DATES: Effective Date: The corrections to the Hospice Wage Index for Fiscal Year 2007 notice are effective on October 1, 2006. The correction to the Medicare Part B Monthly Actuarial Rates, Premium Rates, and Annual Deductible for Calendar Year 2007 notice is effective January 1, 2007.

FOR FURTHER INFORMATION CONTACT: Terri Deutsch, (410) 786-9462, for issues related to the hospital wage index for fiscal year 2007. M. Kent Clemens, (410) 786-6391, for issues related to the Medicare Part B Monthly Actuarial Rates, Premium Rates, and Annual Deductible for Calendar Year 2007.

SUPPLEMENTARY INFORMATION:

I. Corrections to the Hospice Wage Index for Fiscal Year 2007 Notice

A. Background

In FR Doc 6-7293, of September 1, 2006 (71 FR 52080) entitled, “Hospice Wage Index for Fiscal Year 2007,” there were errors that we identify in section I.B. and correct in section I.C of this notice.

B. Summary of Errors

In the September 1, 2006 notice, on page 52087, we published an Addendum that list the updated urban and rural wage index values for hospices utilizing the Core-Based Statistical Areas (CBSA) designations. To ensure that hospice providers were able to identify their current wage index, the table contains the CBSA codes, CBSA county name, and CBSA wage index. However, we inadvertently omitted the title of the table. In addition, for CBSA code 33460, we made a typographical error when we entered the wage index value.

This correction notice is consistent with the published hospice wage index values that will be used to make payment as of October 1, 2006. In section I.C. of this notice, we correct these errors.

C. Correction of Errors

Make the following corrections to the September 1, 2006 notice (71 FR 52080):

1. On page 52087, before the table, insert the heading “TABLE A—HOSPICE WAGE INDEX FOR URBAN AREAS.”

2. On page 52106, in the third column, in line 4, for CBSA code 33460, the wage index value “0.1778” is corrected to read “1.1778.”

D. Waiver of Proposed Rulemaking and Delay in Effective Date

We ordinarily publish a notice of proposed rulemaking in the Federal Register to provide a period for public comment before the provisions of a rule take effect in accordance with section 553(b) of the Administrative Procedure Act (APA) (5 U.S.C.553(b)). However, we can waive this notice and comment procedure if the Secretary finds that the notice and comment process is impracticable, unnecessary, or contrary to the public interest, and incorporates a statement of the finding and the reasons therefore in the notice.

The revisions contained in this document merely correct omissions and typographical errors in the addendum for Table A. These corrections are necessary to ensure that the notice accurately reflects the correct hospice wage index values. Since they are not substantive, but merely technical, we find that public comments on these revisions are unnecessary. Therefore, we find good cause to waive notice and comment procedures.

In addition, the Administrative Procedure Act (APA) normally requires a 30-day delay in the effective date of a notice. Since this notice simply makes technical modifications to a notice that has previously gone through notice-and-comment rulemaking, we believe good cause also exists under the APA to waive the 30-day delay in the effective date and that a delay in the correction's effective date is also unnecessary. Thus, these corrections are effective October 1, 2006.

II. Corrections to the Medicare Part B Monthly Actuarial Rates, Premium Rates, and Annual Deductible for Calendar Year 2007 Notice

A. Background

In FR Doc. 06-7709 of September 18, 2006 (71 FR 54665), there was a technical error in the calculation of the income-related monthly adjustment amounts. This error is identified and corrected in section II.B. of this notice. The provisions of this correction notice are effective as if they had been included in the document that appeared in the Federal Register on September 18, 2006. Accordingly, the corrections are effective January 1, 2007.

Under section 5111 of the Deficit Reduction Act of 2005 (Pub. L. 109-171) (DRA), in 2007 beneficiaries will be responsible for 33 percent of any applicable income-related monthly adjustment to the Part B premium. In the September 18, 2006 notice, we inadvertently stated that beneficiaries would only be responsible for “one-third of any applicable income-related monthly adjustment amount,” and we used a value of 33⅓ percent to calculate the income-related monthly adjustment amounts. In the September 22, 2006 correction notice, we corrected the income-related adjustment amounts to reflect a value of “33 percent” as the basis for the calculation of these rates. In this correction notice, we are correcting a value that we inadvertently missed in the correction notice we published in the September 22, 2006 Federal Register (71 FR 55480).

B. Correction of Error

In FR Doc. 06-7709 of September 18, 2006 (71 FR 54665), make the following correction:

On page 54672, in the first table, in the third column, in the fourth row, the amount “$49.90” is corrected to read “$49.40.”

C. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

The Medicare statute requires the publication of the monthly actuarial rates and the Part B premium amounts in September. We ordinarily use general notices, rather than notice and comment rulemaking procedures, to make such announcements. In doing so, we note that, under the Administrative Procedure Act, interpretive rules, general statements of policy, and rules of agency organization, procedure, or practice are excepted from the requirements of notice and comment rulemaking.

This notice corrects an inadvertent error in the notice that appeared in the Federal Register on September 18, 2006, entitled “Medicare Part B Monthly Actuarial Rates, Premium Rates, and Annual Deductible for Calendar Year 2007.” In that notice, we also determined that notice and comment was unnecessary because the formulas used to calculate the Part B premium and the income-related monthly adjustment amounts are statutorily directed and we can exercise no discretion in applying those formulas. Moreover, the statute establishes the time period for which the premium rates will apply, and delaying publication of the Part B premium rate such that it would not be published before that time would be contrary to the public interest.

For the same reasons, we find good cause to waive notice and comment procedures with respect to this correction notice. In addition, this correction notice includes the changes necessary to correct a technical error in the computation of the income-related monthly adjustment amount under the statutory formula. Because these changes affect the amount of the Part B income-related monthly adjustment that will be paid by certain beneficiaries, it is in the public interest to ensure that these changes are made as soon after the publication of the original notice as possible.

(Catalog of Federal Domestic Assistance Program No. 93.773, Medicare—Hospital Insurance; and Program No. 93.774, Medicare—Supplementary Medical Insurance Program)
Dated: September 28, 2006.
Ann C. Agnew,
Executive Secretary to the Department.

[FR Doc. 06-8430 Filed 9-29-06; 8:45 am]

BILLING CODE 4120-01-P